DEPARTMENT OF ENERGY

Federal Energy Regulatory Commission

[Docket Nos. CP09-6-000, PF07-10-000; Docket Nos. CP09-7-000, PF07-10-000]

LNG Development Company, LLC (d/b/a/ Oregon LNG); Oregon Pipeline Company, LLC; Notice of Applications

October 27, 2008.

Take notice that on October 10, 2008, LNG Development Company, LLC (d/b/a Oregon LNG) (Oregon LNG), 8100 NE Parkway Drive, Suite 165, Vancouver, WA 98662, filed an application in Docket No. CP09-6-000 pursuant to section 3(a) of the Natural Gas Act (NGA), 15 U.S.C. 717b and Parts 153 and 380 of the regulations of the Federal Energy Regulatory Commission (Commission), 18 CFR parts 153 and 380, for authorization to site, construct and operate a liquefied natural gas (LNG) receiving terminal and associated facilities to be located in the town of Warrenton in Clatsop County, Oregon (collectively, the Terminal).

Also take notice that on October 10, 2008, Oregon Pipeline Company, LLC, (Oregon Pipeline Company), 8100 NE Parkway Drive, Suite 165, Vancouver, WA 98662, filed pursuant to section 7(c) of the NGA and Parts 157 and 284 of the Commission's regulations, an application in Docket No. CP09-7-000, for (1) a certificate of public convenience and necessity (i) authorizing Oregon Pipeline Company to construct, own and operate a new natural gas pipeline (Pipeline) and lateral (Lateral) under Part 157, Subpart A of the Commission's regulations, (ii) approving the pro forma Tariff submitted herewith, and (iii) approving the proposed initial rates for service; (2) a blanket certificate authorizing Oregon Pipeline Company to engage in certain self-implementing routine activities under Part 157, Subpart F, of the Commission's regulations; and (3) a blanket certificate authorizing Oregon Pipeline Company to transport natural gas, on an open access and self-implementing basis, under part 284, Subpart G of the Commission's regulations.

Oregon Pipeline proposes to construct an approximate 121-mile long, 36-inch diameter natural gas pipeline. The proposed Pipeline will interconnect the Terminal at the Molalla Gate Station (near Molalla, Oregon) with other natural gas pipelines including the intrastate Northwest Natural Gas Co. (NW Natural) South Mist Pipeline Extension (SMPE) and the interstate natural gas transmission system of Williams Northwest Pipeline Co. The Pipeline will employ a maximum allowable operating pressure of 1,440 pounds per square inch gauge and, depending on customer demand, deliverability of up to 1.5 Bscf/d.

Oregon Pipeline Company also proposes to construct, own and operate a 9.5-mile long, 24-inch diameter pipeline lateral that will tap off the Pipeline near milepost 51 and run in an easterly direction to where it will connect to the NW Natural SMPE, and possibly to the NW Natural South Mist Feeder Pipeline.

Any questions regarding the applications should be directed to Peter Hansen, LNG Development Company, LLC, 8100 NE Parkway Drive, Suite 165, Vancouver, WA 98662, (503) 298-4967, peterh@oregonlng.com or Lisa M. Tonery, Fulbright & Jaworski L.L.P., 666 Fifth Avenue, New York, NY 10103, (212) 318-3009, ltonery@fulbright.com.

The filing is available for review at the Commission in the Public Reference Room or may be viewed on the Commission's Web site at http://www.ferc.gov using the eLibrary link. Enter the docket number excluding the last three digits in the docket number field to access the document. For assistance, contact FERC at FERCOnlineSupport@ferc.gov or call toll-free, (886) 208-3676 or TTY, (202) 502-8659.

On June 19, 2007, the Commission staff granted Oregon LNG's and Oregon Pipeline Company's request to utilize the Pre-Filing Process and assigned Docket No. PF07-10-000 to staff activities involved with the Orgeon LNG Terminal and Oregon Pipeline Company's projects. Now as of the filing the October 10, 2008 application, the Pre-Filing Process for this project has ended. From this time forward, this proceeding will be conducted in Docket Nos. CP09-6-000 and CP09-7-000, as noted in the caption of this Notice.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and 14 copies of the protest or intervention to the Federal Energy Regulatory Commission, 888 First Street, NE., Washington, DC 20426.

This filing is accessible on-line at http://www.ferc.gov, using the eLibrary link and is available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: November 17, 2008.

Kimberly D. Bose,
Secretary.

[FR Doc. E8-26082 Filed 10-31-08; 8:45 am]

BILLING CODE 6717-01-P